Title 3—

The President

Proclamation 8920 of December 20, 2012

To Extend Nondiscriminatory Treatment (Normal Trade Relations Treatment) to the Products of the Russian Federation and the Republic of Moldova

By the President of the United States of America

A Proclamation

1. The Russian Federation has been found to be in full compliance with the freedom of emigration requirements under title IV of the Trade Act of 1974 (the “1974 Act”) (19 U.S.C. 2431 et seq.) since 1994. The Russian Federation acceded to the World Trade Organization (WTO) on August 22, 2012. The extension of permanent normal trade relations treatment to the products of the Russian Federation will permit the United States to avail itself of all rights under the Marrakesh Agreement Establishing the World Trade Organization (the “WTO Agreement”) with respect to the Russian Federation.

2. Pursuant to section 102(a) of Public Law 112-208, I hereby determine that chapter 1 of title IV of the 1974 Act (19 U.S.C. 2431-2439) should no longer apply to the Russian Federation.

3. The Republic of Moldova has been found in full compliance with the freedom of emigration requirements under title IV of the 1974 Act since 1997. The Republic of Moldova acceded to the WTO on July 26, 2001. The extension of permanent normal trade relations treatment to the products of the Republic of Moldova will permit the United States to avail itself of all rights under the WTO Agreement with respect to the Republic of Moldova.

4. Pursuant to section 302(a) of Public Law 112-208, I hereby determine that chapter 1 of title IV of the 1974 Act (19 U.S.C. 2431-2439) should no longer apply to the Republic of Moldova.

NOW, THEREFORE, I, BARACK OBAMA, President of the United States of America, by virtue of the authority vested in me by the Constitution and the laws of the United States of America, including but not limited to sections 102(a) and 302(a) of Public Law 112-208, do proclaim that:

(1) Nondiscriminatory treatment (normal trade relations treatment) shall be extended to the products of the Russian Federation, which shall no longer be subject to chapter 1 of title IV of the 1974 Act.

(2) Nondiscriminatory treatment (normal trade relations treatment) shall be extended to the products of the Republic of Moldova, which shall no longer be subject to chapter 1 of title IV of the 1974 Act.

(3) The extension of nondiscriminatory treatment to the products of the Russian Federation and the Republic of Moldova shall be effective as of the date of this proclamation.

(4) All provisions of previous proclamations and Executive Orders that are inconsistent with the actions taken in this proclamation are superseded to the extent of such inconsistency.

IN WITNESS WHEREOF, I have hereunto set my hand this twentieth day of December, in the year of our Lord two thousand twelve, and of the Independence of the United States of America the two hundred and thirty-seventh.

[FR Doc. 2012-31350

Filed 12-26-12; 11:15 am]

Billing code 3295-F3